DEPARTMENT OF COMMERCE

Foreign-Trade Zones Board

[Docket 66-2011]

Foreign-Trade Zone 37—Orange County, NY, Application for Subzone, ITT Water Technology, Inc. (Centrifugal and Submersible Pumps), Auburn, NY

An application has been submitted to the Foreign-Trade Zones Board (the Board) by the County of Orange, New York, grantee of FTZ 37, requesting special purpose subzone status for the centrifugal and submersible pump manufacturing and warehousing facilities of ITT Water Technology, Inc. (ITTWT), located in Auburn, New York. The application was submitted pursuant to the provisions of the Foreign-Trade Zones Act, as amended (19 U.S.C. 81a-81u), and the regulations of the Board (15 CFR part 400). It was formally filed on October 21, 2011.

The ITTWT facilities (224 employees) consist of two sites: Site 1—manufacturing plant (24.5 acres) located at One Goulds Drive, Auburn, New York; and, Site 2—warehouse (2.5 acres) located at 38 York Street, Auburn. The facilities are used to manufacture and distribute centrifugal and submersible pumps and related controllers (up to one million units of each per year) used in commercial, residential, and waste water applications. Components and materials sourced from abroad (representing 39% of the value of the finished pumps) include: electric motors, pump parts, mechanical seals, plastic o-rings, rubber o-rings, shafts, flanges, motor and shaft couplings, and fasteners (duty rates range from free to 8.5 percent).

FTZ procedures could exempt ITTWT from customs duty payments on the foreign components used in export production. The company anticipates that some 10 percent of the facilities' shipments will be exported. On its domestic sales, ITTWT would be able to choose the duty rates during customs entry procedures that apply to finished centrifugal and submersible pumps (duty free) and controllers (1.5%) for the foreign inputs noted above. FTZ designation would further allow ITTWT to realize logistical benefits through the use of weekly customs entry procedures. Customs duties also could possibly be deferred or reduced on foreign status production equipment. The request indicates that the savings from FTZ procedures would help improve the facilities' international competitiveness.

In accordance with the Board's regulations, Pierre Duy of the FTZ Staff is designated examiner to evaluate and analyze the facts and information presented in the application and case record and to report findings and recommendations to the Board.

Public comment is invited from interested parties. Submissions (original and 3 copies) shall be addressed to the Board's Executive Secretary at the address below. The closing period for their receipt is December 27, 2011. Rebuttal comments in response to material submitted during the foregoing period may be submitted during the subsequent 15-day period to January 10, 2012.

A copy of the application will be available for public inspection at the Office of the Executive Secretary, Foreign-Trade Zones Board, Room 2111, U.S. Department of Commerce, 1401 Constitution Avenue NW., Washington, DC 20230-0002, and in the “Reading Room” section of the Board's Web site, which is accessible via http://www.trade.gov/ftz.

For further information, contact Pierre Duy at Pierre.Duy@trade.gov or (202) 482-1378.

Andrew McGilvray,
Executive Secretary.

[FR Doc. 2011-27854 Filed 10-26-11; 8:45 am]

BILLING CODE P